DEPARTMENT OF HEALTH AND HUMAN SERVICES

Centers for Disease Control and Prevention

[60Day-11-0805]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 or send comments to Daniel Holcomb, CDC Reports Clearance Officer, 1600 Clifton Road, MS D-74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Racial and Ethnic Approaches to Community Health (REACH) US Evaluation—Revision—National Center for Chronic Disease Prevention and Health Promotion (NCCDPHP), Centers for Disease Control and Prevention (CDC).

Background and Brief Description

In 2007, the Centers for Disease Control and Prevention (CDC) launched Racial and Ethnic Approaches to Community Health across the U.S. (REACH US), a national multilevel program to reduce and eliminate health disparities in racial and ethnic minorities. Priority populations for the program are African American, American Indian, Alaska Native, Hispanic American, Asian American, and Pacific Islander citizens. Each state or community funded through the REACH US program developed a community action plan building on the application, synthesis, and dissemination of promising community public health practices in one or more priority areas: Breast and cervical cancer; cardiovascular disease; diabetes mellitus; adult/older adult immunization, hepatitis B, and/or tuberculosis; asthma; and infant mortality. The program priority areas were selected based on statistical analysis of “excess deaths,” which examined differences in minority health in relation to non-minority health and identified the specific health areas that accounted for the majority of the higher annual proportion of minority deaths in the U.S.

As part of the REACH US evaluation plan, CDC sponsored household-based risk factor surveys in 2009, 2010, and 2011 (OMB No. 0920-0805, exp. 2/28/2012). Respondents were selected based on a unique address-based sampling approach that targets specific geographic areas across the country where REACH U.S. interventions have been implemented. The risk factor survey data allow CDC to track trends in community health in the areas where REACH U.S. interventions have been launched.

CDC is requesting OMB approval to conduct two additional cycles of data collection in 2012 and 2013. Risk factor surveys will be conducted in 28 REACH U.S. communities (900 individuals per community). After households have been selected through address-based sampling, health information will be collected through a self-administered, mailed questionnaire, or through interviews conducted by telephone or in-person with members of the selected households. The surveys will help to assess the prevalence of various risk factors associated with chronic diseases, deficits in breast and cervical cancer screening and management, and deficits in adult immunizations. Survey results will also be used to assess progress towards the national goal of eliminating health disparities within minority populations.

OMB approval is requested for two years. Minor changes to the survey questions will be implemented, and adjustments will be made to the estimated number of respondents. Respondents will be adults ages 18 years and older. Participation is voluntary and there are no costs to respondents except their time.

Estimated Annualized Burden Hours
Type of respondents | Form name | Number of respondents | Number of responses per respondent | Average burden per response (in hours) | Total burden (in hours)
Members of REACH U.S. communities | Screening Interview | 14,700 | 1 | 3/60 | 735
| Household Member Interview | 10,600 | 1 | 15/60 | 2,650
| REACH Study Booklet self-administered questionnaire | 24,300 | 1 | 15/60 | 6,075
Total |  |  |  |  | 9,460

Dated: September 29, 2011.
Daniel Holcomb,
Reports Clearance Officer, Centers for Disease Control and Prevention.

[FR Doc. 2011-25755 Filed 10-5-11; 8:45 am]

BILLING CODE 4163-18-P